DEPARTMENT OF THE INTERIOR

Bureau of Indian Affairs

[223A2100DD/AAKC001030/A0A501010.999900]

Resumption of Preparation of an Environmental Impact Statement for the Proposed Coquille Indian Tribe Fee-to-Trust and Gaming Facility Project, Medford, Oregon; Correction

AGENCY: Bureau of Indian Affairs, Interior.

ACTION: Notice; correction.

SUMMARY: The Bureau of Indian Affairs (BIA) published a notice in the Federal Register of December 27, 2021, that listed incorrect dates.

DATES: On December 22, 2021, the Assistant Secretary—Indian Affairs remanded the Tribe's application to the BIA to complete the environmental review process.

FOR FURTHER INFORMATION CONTACT: Mr. Bryan Mercier, Northwest Regional Director, Bureau of Indian Affairs, Northwest Region, by mail: 911 Northeast 11th Avenue, Portland, Oregon 97232-4165; or by telephone: (503) 231-6702. Individuals in the United States who are deaf, deafblind, hard of hearing, or have a speech disability may dial 711 (TTY, TDD, or TeleBraille) to access telecommunications relay services.

SUPPLEMENTARY INFORMATION:

Correction

In the Federal Register of December 27, 2021, in 86 FR 73313, on page 73313, in the second column, in the DATES section, on the first line, “November 19, 2021” should read, “December 22, 2021”.

In the same edition of the Federal Register, on page 73313, in the second column, in the SUPPLEMENTARY INFORMATION section, on line twelve, BIA included the sentence: “On November 19, 2021, the Assistant Secretary—Indian Affairs withdrew the 2020 Denial and remanded the Tribe's application to the BIA to complete the environmental review process under the National Environmental Policy Act (NEPA).”

BIA is replacing that language with this corrected sentence: “On December 22, 2021, the Assistant Secretary—Indian Affairs withdrew the 2020 Denial and remanded the Tribe's application to the BIA to complete the environmental review process under the National Environmental Policy Act (NEPA).”

Authority: This notice is published in accordance with sections 1501.7 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Bryan Newland,
Assistant Secretary—Indian Affairs.

[FR Doc. 2022-04086 Filed 2-25-22; 8:45 am]

BILLING CODE 4337-15-P